DEPARTMENT OF DEFENSE

Office of the Secretary

Notice of Intent To Prepare an Environmental Impact Statement for Construction and Operation of a Homeland Defense Radar in Hawaii

AGENCY: Missile Defense Agency, Department of Defense.

ACTION: Notice of intent to prepare an environmental impact statement.

SUMMARY: The Missile Defense Agency (MDA) announces its intention to prepare an Environmental Impact Statement (EIS) in accordance with the National Environmental Policy Act (NEPA) of 1969 and the Council on Environmental Quality Regulations for implementing the procedural provisions of NEPA. MDA is proposing to construct and operate a Homeland Defense Radar-Hawaii or HDR-H (a radar to identify, track, and classify long-range ballistic missile threats in mid-course flight), an In-Flight Interceptor Communication System Data Terminal or IDT (a facility that provides communication (incorporating data provided byHDR-H) between the Ground-Based Midcourse Defense fire control system and the interceptor that are both stationed elsewhere), and associated support facilities and infrastructure on the island of Oahu, Hawaii. The purpose of the Proposed Action is to support the United States (U.S.) ballistic missile defense system and enhance homeland defense capabilities in the Pacific region including Hawaii. The 2017 National Defense Authorization Act requires the MDA to develop a plan to procure and field a “discrimination radar” to improve the defense of Hawaii from ballistic missile threats. MDA is preparing the EIS to evaluate the potential environmental impacts that could result from the construction and operation of the HDR-H. The Department of Defense has not made a decision concerning the location of where to construct and operate the HDR-H, but has initially evaluated the potential alternatives from a mission requirements standpoint.

DATES: The MDA invites public comments on the scope of the HDR-H EIS during a 45-day public scoping period beginning with publication of this notice in the Federal Register. Comments will be accepted on or before July 16, 2018.

ADDRESSES: Written comments, statements, and/or concerns regarding the scope of the EIS or requests to be added to the EIS distribution list should be addressed to MDA HDR-H EIS and sent by email to MDA.HDRH.EIS@kfs-llc.com, by facsimile at 256-713-1617, or by U.S. Postal Service to: KFS, LLC, Attn: MDA HDR-H EIS, 303 Williams Ave., Suite 116, Huntsville, AL 35801. Electronic or facsimile comments are preferred. If sending comments by U.S. Postal Service, please do not submit duplicate electronic or facsimile comments. All comments, including names and addresses, will be included in the administrative record.

FOR FURTHER INFORMATION CONTACT: MDA Public Affairs at 256-450-1599 or 571-231-8210, or by email: MDAPressOperations@mda.mil. Additional information can be found at MDA's website: https://www.mda.mil/news/nepa_documents.html.

SUPPLEMENTARY INFORMATION: In accordance with 40 Code of Federal Regulations (CFR) 1501.6, the U.S. Air Force, U.S. Army, and U.S. Navy will be cooperating agencies in preparing the EIS. Other cooperating agencies may be identified during the scoping process. Deployment of the HDR-H at a candidate location on Oahu would be within an approximate 160-acre notional boundary, as much as topography and environmental conditions allow, that would be cleared of vegetation, grubbed, and graded. The new facility site would include radar equipment, the Homeland Defense Radar Equipment Shelter, Mission Control Facility, IDT, Radar Cooling Shelter, Military Satellite Communications, Power Plant, and Bulk Diesel Fuel Storage. These mission critical facilities would be within a restricted fenced area. Located within or outside of the restricted area would be other mission support facilities that include an Entry Control Facility, Maintenance Facility, Water Supply and Treatment Buildings, Electrical Substation, and a remote Fuel Fill Station. Additional site utilities and roadway improvements, including communications, electrical connections, water supply, sewer, stormwater drainage, fire protection, sidewalks, and parking would be located within and outside the restricted area.

In addition to the No Action Alternative, the EIS will analyze alternative sites for the proposed radar facility at: (1) Kuaokala Ridge on State land adjacent to Kaena Point Satellite Tracking Station and (2) Kahuku Training Area on the island of Oahu, Hawaii. If deployed at Kuaokala Ridge, the use of approximately 160 acres of State land within the Agricultural District (for the facility footprint, buffer, and construction laydown areas), as well as the right of access to the site, would be required. At each alternative location, impacts will be assessed for the following resource topics: Air quality, airspace management, biological resources, coastal zone management, cultural resources, geology and soils, hazardous materials and hazardous waste, health and safety, infrastructure and transportation, land use and recreation, noise, socioeconomics and environmental justice, water resources, and visual resources.

In addition to satisfying compliance requirements under NEPA, the EIS will also comply with the provisions of the Hawaii Environmental Policy Act (HEPA). MDA encourages all interested members of the public, as well as federal, state, and local agencies to participate in the scoping process for the preparation of this EIS. The scoping process assists in determining the scope of issues to be addressed, other alternatives that should be considered, and helps identify significant environmental issues to be analyzed in depth in the EIS.

Public scoping meetings will be held in the communities of Haleiwa, Waianae, and Honolulu on Oahu, Hawaii, within 30 days from the publication of this Notice of Intent. The meetings will be in an open house format, which provides attendees the opportunity to speak with and ask questions of representatives from the MDA, U.S. Air Force, and U.S. Army. The meetings will have the same format and content at all locations. Notification of the public scoping meeting locations, dates, and times will be published and announced in local news media prior to the meetings.

Dated: May 25, 2018.
Shelly E. Finke,
Alternate OSD Federal Register Liaison Officer, Department of Defense.

[FR Doc. 2018-11733 Filed 5-31-18; 8:45 am]

BILLING CODE 5001-06-P